ENVIRONMENTAL PROTECTION AGENCY

[FRL-7664-5; E-docket Number: ORD-2004-0005]

Proposed Oral Reference Dose (RfD) for Barium and Compounds

AGENCY: Environmental Protection Agency.

ACTION: Notice of external peer-review panel meeting.

SUMMARY: The U.S. Environmental Protection Agency (EPA) is announcing an external peer-review panel meeting for the draft document entitled, “Proposed Oral Reference Dose (RfD) for Barium and Compounds” (NCEA-S-1683). The document was prepared by EPA's National Center for Environmental Assessment (NCEA) of the Office of Research and Development.

DATES: The half-day meeting will begin on June 10, 2004, at 9 a.m. and end at 12 p.m. Members of the public may attend as observers.

ADDRESSES: The meeting will be held at American Geophysical Union (AGU) Headquarters, 2000 Florida Avenue NW., Washington, DC 20009. Under an Interagency Agreement with EPA and the Department of Energy, the Oak Ridge Institute of Science and Education (ORISE) is organizing, convening, and conducting the peer-review meeting. To attend the meeting, register by June 1, 2004, by visiting: http://www.orau.gov/2004bariumreview. Interested parties may also register by contacting Leslie Shapard (ORISE) at (865) 241-5784. Space is limited, and reservations will be accepted on a first-come, first-served basis.

FOR FURTHER INFORMATION CONTACT: Questions regarding registration and logistics should be directed to Leslie Shapard, Oak Ridge Institute of Science and Education (ORISE), MS-17, PO Box 117, Oak Ridge, TN 37831, 865-241-5784 (telephone), 865-241-3168 (facsimile) or shapardL@orau.gov (email). If you have questions about the document, contact Stiven Foster, IRIS Staff, National Center for Environmental Assessment, 1200 Pennsylvania Avenue, NW., Washington, DC 20460; 202-564-2239 (telephone), 202-565-0075 (facsimile), foster.stiven@epa.gov (email). See Supplementary Information below regarding access to the document.

SUPPLEMENTARY INFORMATION: The EPA is seeking external peer review on the draft document entitled: “Proposed Oral Reference Dose (RfD) for Barium and Compounds.” EPA's Office of Research and Development (ORD), National Center for Environmental Assessment (NCEA), developed the proposed RfD in response to a Request for Correction that was submitted to EPA in 2002. The request was submitted to the Agency in accordance with the Guidelines for Ensuring and Maximizing the Quality, Objectivity, Utility, and Integrity of Information Disseminated by the Environmental Protection Agency (U.S. EPA, 2002). The Request for Correction was related to the derivation of the RfD as presented on EPA's Integrated Risk Information System (IRIS) database. IRIS is a database that contains scientific Agency positions on potential adverse human health effects that may result from chronic (or lifetime) exposure to specific chemical substances found in the environment. The database (available on the Internet at http://www.epa.gov/iris) contains qualitative and quantitative health effects information for more than 500 chemical substances that may be used to support the first two steps (hazard identification and dose-response evaluation) of the risk assessment process. In response to the Request for Correction, the data used to derive the current RfD on IRIS have been re-evaluated by NCEA, resulting in the proposed RfD presented in this document.

EPA has established an official public docket for this peer review announcement under Docket ID No. ORD-2004-0005. The official public docket consists of the document referenced in this notice and a list of charge questions that have been submitted to the external peer reviewers. Both the document and charge are available on the Internet at http://www.epa.gov/docket/. Once in the system, select “search,” then key in the appropriate docket identification number (ORD-2004-0005). A limited number of paper copies are available by contacting the IRIS Hotline at (202) 566-1676 or (202) 566-1749 (facsimile). If you are requesting a paper copy, please provide your name, mailing address, and the document title, “Proposed Oral Reference Dose (RfD) for Barium and Compounds” (NCEA-S-1683). Copies are not available from ORISE. You may also find a copy of the document at the EPA Docket Center Reading Room. The address of the Public Reading Room is EPA Docket Center, Environmental Protection Agency, Room B102, 1200 Pennsylvania Ave., NW., Washington, DC 20460-0001. Visitation is between 8:30 a.m. and 4:30 p.m. Monday through Friday, excluding legal holidays. The telephone number for the Public Reading Room is (202) 566-1744. Although a part of the official docket, the public docket does not include Confidential Business Information (CBI) or other information whose disclosure is restricted by statute.

Dated: April 30, 2004.
Peter W. Preuss,
Director, National Center for Environmental Assessment.

[FR Doc. 04-11341 Filed 5-18-04; 8:45 am]

BILLING CODE 6560-50-P